DEPARTMENT OF ENERGY

Federal Energy Regulatory Commission

Combined Notice of Filings #1

Take notice that the Commission received the following electric rate filings:

Docket Numbers: ER16-2514-001.

Applicants: Public Service Company of Colorado.

Description: Compliance filing: OATT Schedules 4 & 9 Compliance to be effective 1/1/2017.

Filed Date: 12/15/16.

Accession Number: 20161215-5098.

Comments Due: 5 p.m. ET 1/5/17.

Docket Numbers: ER17-318-000.

Applicants: Three Peaks Power, LLC.

Description: Supplement to November 8, 2016 Three Peaks Power, LLC tariff filing.

Filed Date: 12/14/16.

Accession Number: 20161214-5200.

Comments Due: 5 p.m. ET 12/28/16.

Docket Numbers: ER17-360-001.

Applicants: Rio Bravo Solar I, LLC.

Description: Tariff Amendment: Supplement to MBR Application to be effective 11/17/2016.

Filed Date: 12/14/16.

Accession Number: 20161214-5229.

Comments Due: 5 p.m. ET 1/4/17.

Docket Numbers: ER17-361-001.

Applicants: Pumpjack Solar I, LLC.

Description: Tariff Amendment: Supplement to MBR Application to be effective 11/17/2016.

Filed Date: 12/14/16.

Accession Number: 20161214-5233.

Comments Due: 5 p.m. ET 1/4/17.

Docket Numbers: ER17-362-001.

Applicants: Rio Bravo Solar II, LLC.

Description: Tariff Amendment: Supplement to MBR Application to be effective 11/17/2016.

Filed Date: 12/14/16.

Accession Number: 20161214-5239.

Comments Due: 5 p.m. ET 1/4/17.

Docket Numbers: ER17-550-000.

Applicants: Entergy Mississippi, Inc.

Description: § 205(d) Rate Filing: EMI-SMEPA Revised Restated Interconnection Agreement to be effective 1/1/2017.

Filed Date: 12/14/16.

Accession Number: 20161214-5262.

Comments Due: 5 p.m. ET 1/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2016.
Nathaniel J. Davis, Sr.,
Deputy Secretary.

[FR Doc. 2016-30969 Filed 12-22-16; 8:45 am]

BILLING CODE 6717-01-P